DEPARTMENT OF LABOR

Employment and Training Administration

Comment Request for Information Collection for Veterans Retraining Assistance Program Participant (VRAP) Outreach Reporting, Extension Without Changes

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act (PRA) of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about “Veterans Retraining Assistance Program Participant Outreach Reporting” which is a request for an extension without changes to the data collection from State Workforce Agencies (SWA), collected on a quarterly basis. We will use this information collection to ensure that VRAP participants are offered employment services after they complete the program as required in the VOW to Hire Heroes Act of 2011.

DATES: Written comments must be submitted to the office listed in the addresses section below on or before September 23, 2013.

ADDRESSES: Submit written comments to Andrew Ridgeway, Office of Workforce Investment, Room S-4203, Employment and Training Administration, U.S. Department of Labor, 200 Constitution Avenue NW., Washington, DC 20210. Telephone number: 202-693-3536 (this is not a toll-free number). Individuals with hearing or speech impairments may access the telephone number above via TTY by calling the toll-free Federal Information Relay Service at 1-877-889-5627 (TTY/TDD). Fax: 202-693-3817. Email: Ridgeway.Andrew@dol.gov. A copy of the proposed information collection request (ICR) can be obtained by contacting the office listed above.

SUPPLEMENTARY INFORMATION:

I. Background

ETA seeks extension without changes for its approval (OMB Control Number: 1205-0511) of the collection of quarterly outreach reports from SWA on VRAP, which is part of the VOW to Hire Heroes Act of 2011 (Pub. L. 112-56). VRAP is a new training program for eligible veterans funded by the Department of Veterans Affairs (VA). The program requires DOL to offer employment placement services to each veteran who participated in the VRAP within 30 days of their completion or termination. VA, in collaboration with DOL, is required to submit a report to Congress by July 1, 2014, on the outcomes of the program. The statutorily required report must include the total number of eligible veterans who participated, the associates degrees or certificates awarded (or other similar evidence of the completion of the program of education or training earned), and data related to the employment status of eligible veterans who participated in the program. The program was authorized to enroll up to 45,000 veterans in Fiscal Year 2012, from July 1, 2012 through September 30, 2012, and up to 54,000 additional veterans from October 1, 2012, through October 1, 2013, with all training to conclude no later than March 31, 2014.

VRAP provides up to 12 months of full-time retraining assistance (currently $1,564 per month) in a “high demand” occupation to eligible veterans at a VA approved community college or technical school. VRAP provides the benefit to veterans who fulfill the following eligibility criteria: as of date of application, is at least 35 years old and less than 60; discharged from active duty under conditions other than dishonorable; is unemployed as of date of application; is not eligible to receive other educational assistance from the VA; is not in receipt of compensation for a service-connected disability rated totally disabling by reason of unemployability; was not and is not enrolled in any Federal or State job training program within the previous 180 days; and, the application must be submitted not later than October 1, 2013.

Once the veteran has terminated or completed the VRAP, the VA transmits a secure participant report to DOL so that employment services can be offered to the participant and program outcomes can be reported. DOL will transmit a report to each State on VRAP participants within that State who terminated or completed VRAP. DOL will transmit each State's file on a weekly basis using a secure File Transfer Protocol site. Each State will be able to access only its file so that it can disseminate the participant information securely to the appropriate American Job Center (AJC) staff in the participant's local area enabling the AJC to offer employment services to the veteran.

To ensure employment services are being offered and outcomes are being tracked for all participants, ETA is proposing to collect quarterly reports from the States, with a 45-day reporting period following each quarter, on the outreach offered to VRAP participants. In order to reduce the amount of participant information being transferred, ETA is proposing to add two data fields to the participant report it sends to the States. The report will be in Microsoft Excel format and will include a “unique identifier” field (not personally identifiable information), assigned by ETA and an “Employment Assistance” field which will be blank. The collection instrument is included as an attachment in the ICR package. The SWA tracking the outreach offered to each VRAP participant will complete the “Employment Assistance” field. ETA is seeking an extension without changes of its approval from OMB to collect from each State the “unique identifier” field and the “Employment Assistance” field on a quarterly basis.

This information collection is subject to PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Veterans Retraining Assistance Program Participant Outreach Reporting.

OMB Number: 1205-0511.

Affected Public: State Workforce Agency staff and American Job Center staff.

Form(s): Participant Dissemination Form and Quarterly Report Form.

Total Annual Burden Cost for Respondents: 0.

Data collection activity | Number of respondents | Frequency | Total responses | Average time per response (in minutes) | Burden hours
Participant Contact List Dissemination | 54 | 52 | 2,808 | 60 | 2,808
Contacting VRAP Participant | 44,500 | 1 | 44,500 | 10 | 7,417
Quarterly Report Preparation | 54 | 4 | 216 | 90 | 324
Total |  |  |  |  | 10,549

Comments submitted in response to this comment request will be summarized and/or included in the request for OMB extension of approval of the ICR; they will also become a matter of public record.

Dated: July 16, 2013.
Gerri Fiala,
Acting Assistant Secretary for Employment and Training, Labor.

[FR Doc. 2013-17762 Filed 7-23-13; 8:45 am]

BILLING CODE 4510-FN-P